DEPARTMENT OF COMMERCE

Census Bureau

2002 Economic Census Ownership Or Control Flier

ACTION: Proposed Collection; Comment Request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 2, 2001.

ADDRESSES: Direct all written comments to Madeleine Clayton, Department Paperwork Clearance Officer, Department of Commerce, Room 6086, 14th and Constitution Avenue, NW., Washington DC 20230 (or via the Internet at mcclayton@doc.gov).

FOR FURTHER INFORMATION CONTACT: Requests for additional information or copies of the information collection instrument(s) should be directed to Bruce M. Goldhirsch, Bureau of the Census, Room 2529, Building 3, Washington, DC 20233-6100, and 301-457-2626 or email at Bruce.M.Goldhirsch@census.gov.

SUPPLEMENTARY INFORMATION

I. Abstract

The Census Bureau is the preeminent collector of timely, relevant and quality data about the people and economy of the United States. Economic data are the Census Bureau's primary program commitment during non-decennial census years. The economic census, conducted under authority of title 13 U.S.C., is the primary source of facts about the structure and function of the Nation's economy and features unique industry and geographic detail. Economic census statistics serve as part of the framework for the national accounts and provide essential information for government, business and the general public.

The data collection for ownership and control questions is a supplement to the 2002 Economic Census. In prior censuses these questions were included as part of the economic census questionnaires and used to determine if single-establishment firms were either owned or controlled by another company or if they operate at more than one location. Since the ownership or control questions only apply to single-establishment companies, we have removed these questions from economic census questionnaires. We will include these questions on a separate flier that only will be inserted in economic census questionnaire mail out packages for single-establishment firms.

II. Method of Collection

The economic census will select establishments for its mail canvas from the Census Bureau's Business register. For those single-establishments firms selected in the economic census, an ownership or control flier will be inserted in the mail out package. We estimate that for the 2002 Economic Census there will be approximately 2,442,300 establishments of single-establishment firms.

III. Data

OMB Number: Not Available.

Form Number: The 12 fliers used to collect ownership or control information are tailored to specific business practices and are too numerous to list separately in this notice.

Type of Review: Regular Review.

Affected Public: State or local governments, businesses or other for profit organizations, and non-profit institutions.

Estimated Number of Respondents: 2,442,300.

Estimated Time Per Response: 1.2 minutes.

Estimated Total Annual Burden Hours: 48,846.

Estimated Total Annual Cost: $748,320.

Respondent's Obligation: Mandatory.

Legal Authority: Title 13, U.S.C., Sections 131 and 224.

IV. Request for Comments

Comments are invited on: (a) Whether the proposed collection of information is necessary for the proper performance of the functions of the agency, including whether the information shall have practical utility; (b) the accuracy of the agency's estimate of the burden (including hours and cost) of the proposed collection of information: (c) ways to enhance the quality, utility, and clarity of the information to be collected; and (d) ways to minimize the burden of the collection techniques or other forms of information technology.

Comments submitted in response to this notice will be summarized and/or included in the request for OMB approval of this information collection; they also become a matter of public record.

Dated: April 26, 2001.
Madeleine Clayton,
Departmental Paperwork Clearance Officer, Office of the Chief Information Officer.

[FR Doc. 01-10776 Filed 4-30-01; 8:45 am]

BILLING CODE 3510-07-P